FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012009.

Title: APL/MOL Indian Sub-Continent/U.S. East Coast Via Suez Slot Charter Agreement.

Parties: American President Lines, Ltd.; APL Co. PTE Ltd.; and Mitsui O.S.K. Lines, Ltd. (“MOL”)

Filing Party: Eric C. Jeffrey, Esq.; Goodwin Proctor LLP; 901 New York Avenue, NW.; Washington, DC 20001.

Synopsis: The agreement authorizes American President Lines, Ltd. and APL Co. PTE Ltd. to charter space to MOL in the trade between U.S. East Coast ports and ports in the Indian subcontinent, South East Asia, the Middle East, the Mediterranean, and Portugal.

Agreement No.: 012010.

Title: MSC/K-Line Space Charter Agreement.

Parties: Mediterranean Shipping Co. S.A. (“MSC”) and Kawasaki Kisen Kaisha Ltd. (“K-Line”)

Filing Party: Wayne R. Rohde, Esq.; Sher & Blackwell LLP; 1850 M Street, NW.; Suite 900; Washington, DC 20036.

Synopsis: The agreement authorizes MSC to charter space to K-Line in the trade between the U.S. Atlantic Coast and ports in Italy and Spain.

Agreement No.: 012011.

Title: MSC/YML Space Charter Agreement.

Parties: Mediterranean Shipping Co. S.A. (“MSC”) and YangMing (UK) Ltd. (“YangMing”).

Filing Party: Wayne R. Rohde, Esq.; Sher & Blackwell LLP; 1850 M Street, NW.; Suite 900; Washington, DC 20036.

Synopsis: The agreement authorizes MSC to charter space to YangMing in the trade between the U.S. Atlantic Coast and ports in Italy and Spain.

By Order of the Federal Maritime Commission.
Dated: August 10, 2007.
Bryant L. VanBrakle,
Secretary.

[FR Doc. E7-15993 Filed 8-14-07; 8:45 am]

BILLING CODE 6730-01-P